DEPARTMENT OF AGRICULTURE

Privacy Act of 1974: Notice of Proposed Privacy Act System of Records Revision

AGENCY: Office of Homeland Security and Emergency Coordination, Departmental Management, U.S. Department of Agriculture.

ACTION: Notice of Proposed Privacy Act System of Records.

SUMMARY: In accordance with the requirements of the Privacy Act of 1974, as amended, the U.S. Department of Agriculture (USDA), Departmental Management (DM), Office of Homeland Security and Emergency Coordination (OHSEC), is giving notice of a system of records that is maintained for the purpose of the Radiation Safety Management System (RSMS). The RSMS was developed by the Radiation Safety Division, a component of USDA's DM, as a tool for the management of the USDA's radiation safety information and records. The RSMS is an online, Web-based database management system that is used only by USDA employees and the Radiation Safety Division (RSD) of USDA to manage information required by the Nuclear Regulatory Commission (NRC).

DATES: Effective Date: This notice will be effective without further notice on December 5, 2011 unless modified by a subsequent notice to incorporate comments received from the public. Written or electronic comments must be received by the contact person listed below on or before November 7, 2011 to be ensured consideration.

ADDRESSES: You may submit written or electronic comments on this notice by any of the following methods:

• Federal eRulemaking Portal: http://www.regulations.gov. Follow the online instructions for submitting comments.

• Information Hotline: (202) 720-2791.

• Fax: (301) 504-2450.

• Mail: Radiation Safety Division (RSD) 5601 Sunnyside Avenue, MS 5510, Beltsville, MD 20705.

• Hand Delivery or Courier: Radiation Safety Division (RSD) 14th & Independence Avenue, SW., Mail Stop: 5010, Washington, DC 20250-9338.

• E-mail: Maureen Davis, Project Manager of Radiation Management Division, RSMS, at maureen.davis@usda.gov.

Instructions: All comments will become a matter of public record and should be identified as “RSMS System of Records Comments,” making reference to the date and page number of this issue of the Federal Register. Comments will be available for public inspection in the above office during regular business hours (7 CFR 1.27(b)). Please call the Radiation Management Division at (301) 504-2440 to make an appointment to read comments.

FOR FURTHER INFORMATION CONTACT: Maureen Davis, Project Manager of the Radiation Management Division, at (301) 504-2440.

SUPPLEMENTARY INFORMATION: The RSMS is an application for managing data on radioactive materials across the United States (and possibly outside the U.S.) that are used by and in support of USDA employees. The RSMS is a comprehensive radiation safety program that ensures the protection of USDA's employees and the general public from harmful effects of radiation and ensures compliance with applicable regulations. USDA utilizes radiation materials in support of a number of mission areas to include:

• Control of invasive pests and prevent pest infestations;

• Domestic animal disease control programs;

• Food safety programs; and

• Research into animal and plant health.

The control and monitoring of radiation materials is a public health and safety concern as identified by the Atomic Energy Act of 1954, 42 U.S.C. 2011 et seq. The RSMS supports the Department's public health concerns by tracking radiation materials within USDA possession and maintaining records of radiation exposure by USDA employees.

NRC regulates the possession and use of radioactive materials in the United States by issuing licenses directly to individuals or organizations or by authorizing and reviewing State programs that issue State licenses. USDA has an NRC license that permits USDA to process and use radioactive materials at all of its locations within the U.S. In addition to radioactive materials licensed by the NRC, the USDA Radiation Safety Program tracks the uses of naturally occurring and accelerator produced radioactive materials and x ray producing material.

The USDA Radiation Safety Program consists of the Radiation Safety Committee (RSC) and the Radiation Safety Division (RSD). The RSC is a policymaking committee that meets quarterly and is required by the NRC license. The RSD is the operational safety headquarters for all USDA agencies and locations, and it implements a comprehensive program that protects USDA employees and the public from the harmful effects of radiation. The RSD also ensures compliance with applicable regulations. For USDA program activities involving the use of radioactive materials or x ray producing equipment, RSD issues and maintains permits, conducts field inspections, and provides assistance resolving employee concerns or questions regarding radiation safety. It also provides advice and assistance in USDA's role in the Federal response to radiological emergencies.

In certain USDA programs, unsealed isotopes are used as radio-chemical laboratory research tools. Portable nuclear gauges are used to make water measurements in soil and for road and dam construction. Irradiators, which emit intense gamma radiation, are used to irradiate in insect sterilization and control programs and for other purposes. Electron capture detectors are used as a component of gas chromatographs in research labs. X ray fluorescence analyzers are used in the field to verify the presence or absence of the hazardous materials such as lead paint. X ray producing equipment is also used for various programs.

The RSD issues permits directly to USDA employees (Radiation Safety permit holders), which authorize the employee to possess and use radioactive materials or x ray producing equipment at USDA locations. The permits enable the RSD to maintain control of unsealed radioactive materials inventories, radioactive sealed sources, and x ray producing equipment by tracking isotope possession limits, acquisitions, transfers, and disposals. The permits are maintained in a computer database.

NRC requires that USDA track radioactive materials from acquisition to disposal. Only Radiation Safety permit holders who have the requisite training are allowed to acquire, store, use, and manage these materials. The information within the RSMS is requested by USDA's Radiation Safety Committee to evaluate an individual's qualifications to obtain and use radioactive materials or x ray producing equipment.

The information requested is maintained in accordance with 42 U.S.C. 2111, 2201. It is used to track the materials for the life of the material pursuant to NRC regulations.

The users of the RSMS consist only of qualified USDA employees, including: the Radiation Safety Division, Location Radiation Protection Officers, Permit Holders, Associate Users, and Radiation Safety Committee. The internal users use the system to manage the data needed to comply with NRC regulations. The RSMS assists USDA employees by collecting data that is used to create reports for Area Managers in USDA agencies: Natural Resources Conservation Service, Agricultural Research Service, Agricultural Marketing Service, Animal and Plant Health Inspection Service, and Food Safety and Inspection Service. Reports are also provided to the NRC.

Signed at Washington, DC, on September 30, 2011.
Thomas J. Vilsack,
Secretary.

USDA/OHSEC-1

SYSTEM NAME:

Radiation Safety Management System (RSMS).

SECURITY CLASSIFICATION:

Sensitive But Unclassified (SBU).

SYSTEM LOCATION:

The RSMS servers are located on the Departmental Administration (DA) General Support System (GSS) located in Washington, DC and in Beltsville, MD. Paper records are located ______?

CATEGORIES OF INDIVIDUALS COVERED BY THE SYSTEM:

The system covers RSMS users, all of whom are USDA employees, including the Radiation Safety Division (RSD), Location Radiation Protection Officers, Permit Holders, Associate Users, and Radiation Safety Committee (RSC).

CATEGORIES OF RECORDS IN THE SYSTEM:

Categories of records covered by this system of records include: USDA employee's user name, e-mail address, level of education, work address, work phone number, gender, and user ID.

AUTHORITY FOR MAINTENANCE OF THE SYSTEM:

USDA collects this information pursuant to 42 U.S.C. 2111, 2201 and 7 CFR 2.24(a)(8)(ii).

AGENCY OFFICIAL RESPONSIBLE FOR THE SYSTEM OF RECORDS:

Director of Radiation Security Division, Office of Homeland Security and Emergency Coordination, Departmental Management, U.S. Department of Agriculture, 5601 Sunnyside Avenue, MS 5510, Beltsville, MD 20705.

PURPOSE:

These records are used by USDA personnel to track the use of radioactive material and x-ray producing equipment in order to comply with NRC requirements and to ensure the safety of USDA personnel and the public.

ROUTINE USES OF RECORDS MAINTAINED IN THE SYSTEM, INCLUDING CATEGORIES OF USERS AND PURPOSES OF SUCH USES:

The agency will disclose information from this system:

(1) To the Department of Justice when: (a) The agency or any component thereof; or (b) any employee of the agency in his or her official capacity or where the Department of Justice has agreed to represent the employee; or (c) the United States Government, is a party to litigation or has an interest in such litigation, and by careful review, the agency determines that the records are both relevant and necessary to the litigation, and the use of such records by the Department of Justice is therefore deemed by the agency to be for a purpose that is compatible with the purpose for which the agency collected the records.

(2) To a court or adjudicative body in a proceeding when: (a) The agency or any component thereof; or (b) any employee of the agency in his or her official capacity; or (c) any employee of the agency in his or her individual capacity where the agency has agreed to represent the employee; or (d) the United States Government is a party to litigation or has an interest in such litigation, and by careful review, the agency determines that the records are both relevant and necessary to the litigation, and the use of such records is therefore deemed by the agency to be for a purpose that is compatible with the purpose for which the agency collected the records.

(3) When a record on its face, or in conjunction with other records, indicates a violation or potential violation of law, whether civil, criminal, or regulatory in nature, and whether arising by general statute or particular program statute, or by regulation, rule, or order issued pursuant thereto, disclosure may be made to the appropriate agency, whether Federal, foreign, State, local, or Tribal, or other public authority responsible for enforcing, investigating, or prosecuting such violation or charged with enforcing or implementing the statute, or rule, regulation, or order issued pursuant thereto, if the information disclosed is relevant to any enforcement, regulatory, investigative, or prosecutive responsibility of the receiving entity.

(4) To a Member of Congress or to a Congressional staff member in response to an inquiry of the Congressional office made at the written request of the constituent about whom the record is maintained.

(5) To the National Archives and Records Administration or to the General Services Administration for records management inspections conducted under 44 U.S.C. 2904 and 2906.

(6) To agency contractors, grantees, experts, consultants, or volunteers who have been engaged by the agency to assist in the performance of a service related to this system of records and who need to have access to the records in order to perform the activity. Recipients shall be required to comply with the requirements of the Privacy Act of 1974, as amended, pursuant to 5 U.S.C. 552a(m).

(7) To appropriate agencies, entities, and persons when: (a) USDA suspects or has confirmed that the security or confidentiality of information in the system of records has been compromised; (b) USDA has determined that as a result of the suspected or confirmed compromise there is a risk of harm to economic or property interests, identity theft or fraud, or harm to the security or integrity of this system or other systems or programs (whether maintained by USDA or another agency or entity) that rely upon the compromised information; and (c) the disclosure made to such agencies, entities, and persons is reasonably necessary to assist in connection with USDA's efforts to respond to the suspected or confirmed compromise and prevent, minimize, or remedy such harm.

(8) To the NRC, per regulation, by USDA's Radiation Safety Committee for the secure control, maintenance, and tracking of all radiation materials and all employees holding Radiation Permits.

DISCLOSURE TO CONSUMER REPORTING AGENCIES:

None.

POLICIES AND PRACTICE FOR STORING, RETRIEVING, ACCESSING, RETAINING, AND DISPOSING OF RECORDS IN THE SYSTEM STORAGE:

Electronic records are maintained on a file server. Paper files and electronic media are maintained in physically secured rooms at the USDA data center located in Washington, DC.

RETRIEVABILITY:

Information is retrieved by USDA employee's user name, e-mail address, work address, work phone number, and user ID.

SAFEGUARDS:

The electronic data files for the RSMS are maintained in Washington, DC. A backup of the RSMS is maintained in Beltsville, MD. Control measures implemented to prevent misuse of accessible data include unique user identification, a password protection protocol, and limitation of user roles through compartmentalization of allowed access. Agency-implemented cyber security measures and firewalls are built into the application user interface to monitor the use of the RSMS. The hard copy components of the system and computer files, tapes, and disks are kept in a safeguarded environment with access only by authorized personnel.

RETENTION AND DISPOSAL:

Some data from the RSMS containing employee information are periodically purged from the system in accordance with approved records retention schedules; however, data and employee information related to radioactive material is maintained in accordance with NRC regulations, due to the sensitivity of radioactive material. The retention periods vary depending on the data type:

• Survey Records: 3 years.

• Lab Surveys: 3 years.

• Leak Tests: 5 years.

SYSTEM MANAGER(S) AND ADDRESS:

The mailing address for the System Manager is 5601 Sunnyside Avenue, MS 5510, Beltsville, MD 20705.

NOTIFICATION PROCEDURES:

Individuals seeking notification of and access to any record contained in this system of records, or seeking to contest its content, may submit a request in writing to the Headquarters or component's Freedom of Information Act (FOIA) Official, whose contact information can be found at http://www.dm.usda.gov/foia.htm under “Where to Send Requests.” If an individual believes that more than one component maintains Privacy Act records concerning him or her, he or she may submit the request to the Chief Privacy Act Officer, Department of Agriculture, 1400 Independence Avenue, SW., Room 408-W, Washington, DC 20250. When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief FOIA Officer, Department of Agriculture, 1400 Independence Avenue, SW., Washington, DC 20250. In addition, you should do the following:

• Provide an explanation of why you believe the Department would have information on you;

• Identify which component(s) of the Department you believe may have the information about you;

• Specify when you believe the records would have been created; and

• Provide any other information that will help the FOIA staff determine which USDA component agency may have responsive records.

If your request is seeking records pertaining to another living individual, you must include a statement from that individual certifying his/her agreement for you to access his/her records. Without this bulleted information, the component(s) may not be able to conduct an effective search, and your request may be denied due to lack of specificity or lack of compliance with applicable regulations.

RECORD ACCESS PROCEDURES:

See “Notification procedures” above.

CONTESTING RECORD PROCEDURES:

See “Notification procedures” above.

RECORD SOURCE CATEGORIES:

Information is obtained from the individual.

EXEMPTIONS CLAIMED FOR THE SYSTEM:

None.

PRIVACY ACT SYSTEM USDA-OHSEC-1

SYSTEM NAME:

Radiation Safety Management System (RSMS).

NARRATIVE STATEMENT:

The Radiation Safety Management System (RSMS) is an online, Web-based database management system that is used only by USDA employees to manage information required by the Nuclear Regulatory Commission (NRC). The application allows USDA's Radiation Safety Division to manage data on radioactive materials that are used by and in support of USDA employees. The RSMS is part of a comprehensive radiation safety program that ensures the protection of USDA's employees and the general public from harmful effects of radiation and ensures compliance with applicable regulations. USDA employees utilize radiation materials in support of a number of mission areas including:

• Control of invasive pests and prevent pest infestations;

• Domestic animal disease control programs;

• Food safety programs; and

• Research into animal and plant health.

The control and monitoring of radiation materials is a public health and safety concern as identified by the Atomic Energy Act of 1954, 43 U.S.C. 2011 et seq. The RSMS supports the Department's public health concerns by tracking radiation materials within USDA possession and maintaining records of radiation exposure by USDA employees. NRC regulates the possession and use of radioactive materials by issuing licenses directly to individuals or organizations. USDA has an NRC license that permits it to process and use radioactive materials at all of its locations within the U.S. In addition, USDA's Radiation Safety Program tracks the use of naturally occurring and accelerator-produced radioactive materials and x ray producing material. USDA's Radiation Safety Division (which is part of the agency's Radiation Safety Program) issues permits directly to USDA employees, authorizing them to possess and use radioactive materials or x ray producing equipment. The RSMS assists in tracking and evaluating qualifications of employees with permits, as well as the movement of radioactive materials.

Due to the sensitive nature of data maintained in the RSMS, the system adheres to the National Institute of Standards and Technology Special Publication 800-53 security controls and Federal Information Processing Systems 199 and 200. Moreover, specific USDA security requirements are adhered to through the USDA Cyber Security Manuals, including, but not limited to, DM3545-000 Personnel Security.

The RSMS contains personal information about USDA employees, including name, work telephone number, e-mail, work address, user ID, level of education, and gender. The information collected by the RSMS is necessary to determine the location of radiation material.

To address privacy issues and ensure protection of information provided by customers and employees, the RSD has completed a privacy impact assessment (PIA). It has been posted on the USDA Privacy Policy Web site. The PIA provides detailed information about steps taken by the agency to minimize the risk of unauthorized access to the system. These steps include role-based access controls; data encryption in transmission; physical and environmental protection; auditing; configuration management; and contingency planning. User identification and authentication are also provided in the form of unique user IDs and passwords that are issued to USDA personnel. The RSMS computing equipment is stored in a secure computer room, and physical access is restricted to approved USDA personnel.

The electronic data files for the RSMS are maintained in Washington, DC.

A backup of the RSMS is maintained in Beltsville, MD. Control measures implemented to prevent misuse of accessible data include unique user identification, a password protection protocol, and limitation of user roles through compartmentalization of allowed access. Agency-implemented cyber security measures and firewalls are built into the application user interface to monitor the use of the RSMS. The hard copy components of the system and computer files, tapes, and disks are kept in a safeguarded environment with access only by authorized personnel.

Information will be disclosed: To the Department of Justice or a court or adjudicative body in a proceeding when the agency determines that the information is relevant and necessary to litigation involving the United States or its employees; to the appropriate agency responsible for enforcing violations when a record on its face indicates a violation of law; to a Member of Congress at the written request of his or her constituent about whom the record is maintained; to the National Archives and Records Administration or the General Services Administration for records management inspections; to agency contractors or others engaged by the agency to assist in performing agency services; to the appropriate agencies or entities if USDA suspects the confidentiality or security of the information was compromised; and to the NRC.

Supporting Documentation:

Systems Notice: The Department of Agriculture has attached advance copies of the Federal Register notice of the new system of records.

[FR Doc. 2011-25814 Filed 10-5-11; 8:45 am]

BILLING CODE 3412-BA-P